DEPARTMENT OF ENERGY

Federal Energy Regulatory Commission

Combined Notice of Filings #1

Take notice that the Commission received the following electric rate filings:

Docket Numbers: ER15-1461-000.

Applicants: MidAmerican Energy Company.

Description: § 205(d) rate filing per 35.13(a)(2)(iii): MidAmerican-Ameren Transmission Interconnection Agreement to be effective 3/30/2015.

Filed Date: 4/6/15.

Accession Number: 20150406-5172.

Comments Due: 5 p.m. ET 4/27/15.

Docket Numbers: ER15-1462-000.

Applicants: ISO New England Inc.

Description: Identification of Potential New Capacity Zone Boundaries of ISO New England, Inc.

Filed Date: 4/6/15.

Accession Number: 20150406-5205.

Comments Due: 5 p.m. ET 4/27/15.

Docket Numbers: ER15-1463-000.

Applicants: Triton Energy, Inc.

Description: Initial rate filing per 35.12 Triton Energy, Inc. MBR Tariff to be effective 5/15/2015.

Filed Date: 4/7/15.

Accession Number: 20150407-5087.

Comments Due: 5 p.m. ET 4/28/15.

Docket Numbers: ER15-1464-000.

Applicants: PJM Interconnection, L.L.C., Rochelle Municipal Utilities.

Description: § 205(d) rate filing per 35.13(a)(2)(iii): PJM and City of Rochelle submit revisions to PJM OATT and TOA re: integration to be effective 8/1/2015.

Filed Date: 4/7/15.

Accession Number: 20150407-5105.

Comments Due: 5 p.m. ET 4/28/15.

Docket Numbers: ER15-1465-000.

Applicants: PJM Interconnection, L.L.C., Rochelle Municipal Utilities.

Description: § 205(d) rate filing per 35.13(a)(2)(iii): PJM and City of Rochelle submit revisions to OATT and TOA re: integration to be effective 8/1/2015.

Filed Date: 4/7/15.

Accession Number: 20150407-5112.

Comments Due: 5 p.m. ET 4/28/15.

Docket Numbers: ER15-1466-000.

Applicants: ISO New England Inc., New England Power Company.

Description: § 205(d) rate filing per 35.13(a)(2)(iii): First Revised Service Agreement Nos. TSA-NEP-83 and TSA-NEP-86 Under ISO-NE OATT to be effective 6/7/2015.

Filed Date: 4/7/15.

Accession Number: 20150407-5130.

Comments Due: 5 p.m. ET 4/28/15.

Docket Numbers: ER15-1467-000.

Applicants: Emera Maine.

Description: Compliance filing per 35: Emera Maine Filing of Blue Sky East E and P Agreement to be effective 6/8/2015.

Filed Date: 4/7/15.

Accession Number: 20150407-5136.

Comments Due: 5 p.m. ET 4/28/15.

Docket Numbers: ER15-1468-000.

Applicants: Midcontinent Independent System Operator, Inc.

Description: § 205(d) rate filing per 35.13(a)(2)(iii): 2015-04-07_Attachment E revisions to be effective 6/7/2015.

Filed Date: 4/7/15.

Accession Number: 20150407-5159.

Comments Due: 5 p.m. ET 4/28/15.

Docket Numbers: ER15-1469-000.

Applicants: Alabama Power Company.

Description: § 205(d) rate filing per 35.13(a)(2)(iii): White Pine Solar LGIA Filing to be effective 3/24/2015.

Filed Date: 4/7/15.

Accession Number: 20150407-5209.

Comments Due: 5 p.m. ET 4/28/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2015.
Nathaniel J. Davis, Sr.,
Deputy Secretary.

[FR Doc. 2015-08398 Filed 4-10-15; 8:45 am]

BILLING CODE 6717-01-P